TENNESSEE VALLEY AUTHORITY

Meeting of the Regional Resource Stewardship Council

AGENCY: Tennessee Valley Authority (TVA).

ACTION: Notice of meeting.

SUMMARY: TVA will convene a meeting of the Regional Resource Stewardship Council (Regional Council) to obtain views and advice on the topic of public involvement practices. Under the TVA Act, TVA is charged with the proper use and conservation of natural resources for the purpose of fostering the orderly and proper physical, economic and social development of the Tennessee Valley region. The Regional Council was established to advise TVA on its natural resource stewardship activities. Notice of this meeting is given under the Federal Advisory Committee Act, 5 U.S.C. App. 2, (FACA).

The meeting agenda includes the following:

(1) Discussion of TVA public involvement practices.

(2) Discussion of order public involvement practices.

(3) Public comments on the topic of TVA's public involvement practices.

(4) Regional Council discussion on the topic of TVA's public involvement practices.

(5) Close out of open Council business (advice on TVA's role in recreation from September 2003 meeting).

(6) Regional Council discussion on the future of the Council.

The Regional Council will hear opinions and views of citizens of providing a public comment session. The public comment session will be held from 3 to 4 p.m. EST on Wednesday, January 21, 2004. Citizens who wish to express views and opinions on the topic of TVA's public participation practices may do so during the Public Comment portion of the agenda. Public comments participation is available on a first-come, first-served basis. Speakers addressing the Regional Council are requested to limit their remarks to no more than 5 minutes. Persons wishing to speak are requested to register at the door and are then called on by the Regional Council Chair during the public comment period. Handout materials should be limited to one printed page. Written comments are also invited and may be mailed to the Regional Resource Stewardship Council, Tennessee Valley Authority, 400 West Summit Hill Drive, WT 11A, Knoxville, Tennessee 37902.

DATES: The meeting will be held on Wednesday, January 21, 2004, from 8:30 a.m. to 5 p.m. and on Thursday, January 22, 2004, from 8 a.m. to 3 p.m. Eastern Standard Time.

ADDRESSES: The meeting will be held in the auditorium at the Tennessee Valley Authority headquarters, 400 West Summit Hill Drive, Knoxville, Tennessee 37902, and will be open to the public. Anyone needing special access or accommodations should let the contact below know at least a week in advance.

FOR FURTHER INFORMATION CONTACT: Sandra L. Hill, 400 West Summit Hill Drive, WT 11A, Knoxville, Tennessee 37902, (865) 632-2333.

Dated: December 19, 2003.
Kathryn J. Jackson,
Executive Vice President, River System Operations & Environment, Tennessee Valley Authority.

[FR Doc. 03-31977 Filed 12-29-03; 8:45 am]

BILLING CODE 8120-08-M